DEPARTMENT OF THE INTERIOR

National Park Service

Minor Boundary Revision of Lassen Volcanic National Park

AGENCY: National Park Service, Interior.

ACTION: Announcement of boundary revision.

SUMMARY: This notice announces the revision to the boundary of Lassen Volcanic National Park, pursuant to the authority specified below, to include two adjacent and contiguous tracts totaling 79.97 acres. Tract 01-171 contains 62.77 acres, is located in Tehama County, and is further identified by Tehama County Assessor's Parcel Number 015-040-13. Tract 01-172 contains 17.20 acres, is located in Plumas County, and is further identified by Plumas County Assessor's Parcel Number 011-010-02.

The tracts are depicted on Drawing No. 111/92000, Sheet 1 of 3, Segment Map 01, revised October 24, 2007. This map is on file and available for inspection at the following locations: National Park Service, Land Resources Program Center, Pacific West Region, 1111 Jackson St., Suite 700, Oakland, CA 94607, and National Park Service, Department of the Interior, 1849 C Street, NW., Washington, DC 20240.

SUPPLEMENTARY INFORMATION: 16 U.S.C. 4601-9(c)(1) provides that, after notifying the House Committee on Natural Resources and the Senate Committee on Energy and Natural Resources, the Secretary of the Interior is authorized to make this boundary revision. The Committees were so notified by letter dated September 2, 2009. The National Park Service proposes to acquire these parcels by donation from The Wilderness Land Trust.

DATES: The effective date of this boundary revision is October 27, 2009.

FOR FURTHER INFORMATION CONTACT: National Park Service, Chief, Pacific Land Resources Program Center, Pacific West Region, 1111 Jackson St., Suite 700, Oakland, CA 94607, (510) 817-1414. Before including your address, phone number, e-mail address, or other personal identifying information in your comment, you should be aware that your entire comment—including your personal identifying information—may be made publicly available at any time. While you can ask us in your comment to withhold your personal identifying information from public review, we cannot guarantee that we will be able to do so.

Dated: October 22, 2009.
Jonathan B. Jarvis,
Regional Director, Pacific West Region.

[FR Doc. E9-25844 Filed 10-26-09; 8:45 am]

BILLING CODE P